DEPARTMENT OF TRANSPORTATION

Office of the Secretary

[Docket No. OST-2004-16951]

Notice of Request for Renewal of a Previously Approved Collection

AGENCY: Office of the Secretary, Department of Transportation.

ACTION: Notice, correction.

SUMMARY: The Office of the Secretary published a document in the Federal Register on October 9, 2007, concerning a request for a renewal of a previously approved information collection. We are correcting the document as set forth below.

FOR FURTHER INFORMATION CONTACT: Lauralyn Remo, Air Carrier Fitness Division (X-56), Office of Aviation Analysis, Office of the Secretary, U.S. Department of Transportation, 1200 New Jersey Avenue, SE., Washington, DC 20590, (202) 366-9721.

Correction

In the October 9, 2007, Federal Register [72 FR 57375], correct the Estimate Total Burden on Respondents to read:

Total Annual Responses: 5,988.

Issued in Washington, DC on October 11, 2007.
Todd M. Homan,
Director, Office of Aviation Analysis.

[FR Doc. E7-20501 Filed 10-16-07; 8:45 am]

BILLING CODE 4910-9X-P